DEPARTMENT OF VETERANS AFFAIRS

[OMB Control No. 2900—NEW]

Agency Information Collection Activity Under OMB Review: Accelerated Aging Among Vietnam-Era Veterans Survey

AGENCY: Veterans Health Administration, Department of Veterans Affairs.

ACTION: Notice.

SUMMARY: In compliance with the Paperwork Reduction Act (PRA) of 1995, this notice announces that the Veterans Health Administration, Department of Veterans Affairs, will submit the collection of information abstracted below to the Office of Management and Budget (OMB) for review and comment. The PRA submission describes the nature of the information collection and its expected cost and burden and it includes the actual data collection instrument.

DATES: Comments must be submitted on or before October 18, 2018.

ADDRESSES: Submit written comments on the collection of information through www.Regulations.gov, or to Office of Information and Regulatory Affairs, Office of Management and Budget, Attn: VA Desk Officer; 725 17th St. NW, Washington, DC 20503 or sent through electronic mail to oira_submission@omb.eop.gov. Please refer to “OMB Control No. 2900—NEW” in any correspondence.

FOR FURTHER INFORMATION CONTACT: Cynthia Harvey-Pryor, Office of Quality, Privacy and Risk (OQPR), Department of Veterans Affairs, 810 Vermont Avenue NW, Washington, DC 20420, (202) 461-5870 or email cynthia.harvey-pryor@va.gov. Please refer to “OMB Control No. 2900—NEW” in any correspondence.

SUPPLEMENTARY INFORMATION: Authority: 38 U.S.C. 527.

Title: Accelerated Aging among Vietnam-Era Veterans Survey.

OMB Control Number: 2900—NEW.

Type of Review: New collection.

Abstract: The National Center for PTSD (NCPTSD) was recently allocated funds by Congress to be used for research to advance the prevention and treatment of PTSD. The original language of the legislation states the following: “The committee recognizes the importance of the VA National Center for PTSD in promoting better prevention, diagnoses, and treatment of PTSD.” In response to this, we have developed a study that aims to understand how and the degree to which warzone deployment is associated with increased morbidity and mortality, with particular attention to potential differences among white, black, and Hispanic Veterans, as well as male and female Veterans. To this end, we will consider multiple aspects of military service, deployment experiences, and current stressors of Vietnam-era Veterans in relation to current physical and mental health outcomes. This information will directly inform intervention efforts aimed at prevention or treatment of chronic disorders such as PTSD, depression, and substance/alcohol use disorders, as well as comorbid physical health conditions, particularly in underserved portions of our Veteran population. This type of information can inform system-wide interventions that can maximize Veterans' likelihood of receiving timely and evidence-based healthcare, thereby preventing long-term health problems.

An agency may not conduct or sponsor, and a person is not required to respond to a collection of information unless it displays a currently valid OMB control number. The Federal Register Notice with a 60-day comment period soliciting comments on this collection of information was published at 83 FR 31255 on July 3, 2018, pages 31255 and 31256.

Affected Public: Individuals and households.

Estimated Annual Burden:

Mail Survey: 3,420 hours.

Telephone Survey: 2,738 hours.

Estimated Average Burden per Respondent:

Mail Survey: 45 minutes.

Telephone Survey: 45 minutes.

Frequency of Response: Annually.

Estimated Number of Respondents:

Mail Survey: 4,560.

Telephone Survey: 3,650.

By direction of the Secretary.
Cynthia D. Harvey-Pryor,
Department Clearance Officer, Office of Quality, Privacy and Risk, Department of Veterans Affairs.

[FR Doc. 2018-20200 Filed 9-17-18; 8:45 am]

BILLING CODE 8320-01-P